DEPARTMENT OF THE INTERIOR

Bureau of Land Management

[NV-033-01-1230-EA]

Temporary Closure of Public Lands—Recreation Special Events: Nevada, Carson City Field Office

AGENCY: Interior Department, Bureau of Land Management

ACTION: Temporary closure of public lands.

SUMMARY: Temporary closure of affected public lands in Lyon, Storey, Churchill, Carson, Douglas, Mineral and Washoe Counties on and adjacent to permitted special events such as: Motorized Off Highway Vehicle, Mountain Bike, Horse Endurance competitive event sites and routes. Competitive events (races) are conducted along dirt roads, trails, washes and areas approved for such use through the Special Recreation Use Permit application process. Events occur from May through November, 2001. Closure period is from 6:00 a.m. race day until race finish or until the event has cleared between affected Check Point locations; approximately 2 to 24 hour periods. The general public will be advised of each event and Closure specifics via local newspapers and mailed public letters within 30 days prior to the running of the events. Event maps and information will be posted at the Carson City Field Office.

Locations most commonly used for permitted events include:

1. Lemmon Valley MX Area—Washoe Co., T21N R19E S8

2. Hungry Valley Off Highway Vehicle Area—Washoe Co., T21-23N R20E

3. Pine Nut Mountains—Carson, Douglas & Lyon Counties: T11-16N R20-24E

4. Virginia City/Jumbo Areas—Washoe & Storey Counties: T 16-17N R20-21E

5. Yerington/Weeks Areas—Lyon Co.: T12-16N R23-27E

6. Fallon Area—Churchill Co.: T14-18N R27-32E

7. Hawthorne Area—Mineral County: T5-14N R31½-36E

The Assistant Manager, Non-Renewable Resources announces the temporary closure of selected public lands under his administration. This action is taken to provide for public safety and to protect adjacent resources.

EFFECTIVE DATES: May through November, 2001. Events may be canceled or rescheduled at short notice.

FOR FURTHER INFORMATION CONTACT: Fran Hull, Outdoor Recreation Planner, Carson City District, Bureau of Land Management, 5665 Morgan Mill Road, Carson City, Nevada 89701, Telephone: (775) 885-6161.

SUPPLEMENTARY INFORMATION: Bureau lands to be closed to public use include the width and length of those roads and trails identified as the race route by colorful flagging and directional arrows attached to wooden stakes. A map and schedule of each closure area may be obtained at the contact address. The authorized applicants are required to clearly mark and monitor the event routes during closure periods.

Public uses generally affected by a Temporary Closure include: road and trail uses, camping, shooting of any kind of weapon including paint ball, and public land exploration. Spectator and support vehicles may be driven on open roads only. Spectators may observe the races from certain locations as directed by event and BLM officials.

Exemptions: Closure restrictions do not apply to race officials, medical/rescue, law enforcement and agency personnel monitoring the event.

Authority: 43 CFR 8364 and 43 CFR 8372.

Penalty: Any person failing to comply with the closure orders may be subject to imprisonment for not more than 12 months, or a fine in accordance with the applicable provisions of 18 U.S.C. 3571, or both.

Dated: March 22, 2001.
Richard Conrad,
Assistant Manager, Non-renewable Resources.

[FR Doc. 01-07967 Filed 3-30-01; 8:45 am]

BILLING CODE 4310-HC-M